ENVIRONMENTAL PROTECTION AGENCY

40 CFR Part 87

[EPA-HQ-OAR-2007-0294; FRL-9167-4]

RIN 2060-AP79

Advance Notice of Proposed Rulemaking on Lead Emissions From Piston-Engine Aircraft Using Leaded Aviation Gasoline; Extension of Comment Period

AGENCY: Environmental Protection Agency (EPA).

ACTION: Advance notice of proposed rulemaking; extension of comment period.

SUMMARY: EPA is announcing a 60-day extension of the public comment period for the Advance Notice of Proposed Rulemaking on Lead Emissions From Piston-Engine Aircraft Using Leaded Aviation Gasoline (hereinafter referred to as the ANPR). EPA published this ANPR, which included a request for comment, in the Federal Register on April 28, 2010. The public comment period was to end on June 28, 2010 (60 days after its publication in the Federal Register). This document extends the comment period an additional 60 days until August 27, 2010. This extension of the comment period is provided to allow the public additional time to provide comment on the ANPR.

DATES: The comment period for the ANPR published April 28, 2010 (75 FR 22440) is extended. Written comments must be received on or before August 27, 2010.

ADDRESSES: Submit your comments, identified by Docket ID No. EPA-HQ-OAR-2007-0294, by one of the following methods:

• http://www.regulations.gov: Follow the on-line instructions for submitting comments.

• E-mail: a-and-r-docket@epa.gov.

• Fax: (202) 566-9744.

• Mail: Environmental Protection Agency, Mail Code: 6102T, 1200 Pennsylvania Avenue, NW., Washington, DC 20460. Please include two copies.

• Hand Delivery: EPA Docket Center (Air Docket), U.S. Environmental Protection Agency, EPA West Building, 1301 Constitution Avenue, NW., Room: 3334 Mail Code: 2822T, Washington, DC. Such deliveries are only accepted during the Docket's normal hours of operation, and special arrangements should be made for deliveries of boxed information.

Instructions: Direct your comments to Docket ID No. EPA-HQ-OAR-2007-0294. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www. epa.gov/epahome/dockets.htm. For additional instructions on submitting comments, please refer to the SUPPLEMENTARY INFORMATION section of the advance notice of proposed rulemaking document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA Docket Center, EPA/DC, EPA West, Room 3334, 1301 Constitution Avenue, NW., Washington, DC. The Public Reading Room is open from 8:30 a.m. to 4:30 p.m., Monday through Friday, excluding legal holidays. The telephone number for the Public Reading Room is (202) 566-1744, and the telephone number for the Air Docket is (202) 566-1742.

How can I get copies of this document, the advance notice of proposed rulemaking, and other related information?

The EPA has established a docket for this action under Docket ID No. EPA-HQ-OAR-2007-0294. The EPA has also developed a Web site for aviation, including the ANPR, at: http://www.epa.gov/otaq/aviation.htm. Please refer to the ANPR for detailed information on accessing information related to this notice.

FOR FURTHER INFORMATION CONTACT: Marion Hoyer, Assessment and Standards Division, Office of Transportation and Air Quality, 2000 Traverwood Drive, Ann Arbor, MI 48105; telephone number: (734) 214-4513; fax number: (734) 214-4821; e-mail address: hoyer.marion@epa.gov.

SUPPLEMENTARY INFORMATION: Background: In the ANPR, EPA described and invited comment from all interested parties on the data available for evaluating lead emissions, ambient concentrations and potential exposure to lead from the use of leaded aviation gasoline (avgas) in piston-engine powered aircraft. The ANPR is one of the steps EPA has taken in response to a petition submitted by Friends of the Earth (FOE) requesting that EPA find endangerment from and regulate lead emitted by piston-engine aircraft, or if insufficient information exists, to commence a study. In addition to describing and inviting comment on the current data, the ANPR also describes considerations regarding emission engine standards and requests comment on approaches for transitioning the piston-engine fleet to unleaded avgas.

Extension of Comment Period: EPA received requests for an extension of the ANPR comment period that are available in the docket for this rule (EPA-HQ-OAR-2007-0294). After considering the requests, EPA has determined that a 60-day extension of the comment period would provide the public adequate time to provide meaningful comment on the ANPR. Accordingly, the public comment period for the ANPR is extended until August 27, 2010. EPA does not anticipate any further extension of the comment period at this time.

Dated: June 18, 2010.
Gina McCarthy,
Assistant Administrator, Office of Air and Radiation.

[FR Doc. 2010-15340 Filed 6-23-10; 8:45 am]

BILLING CODE 6560-50-P